DEPARTMENT OF JUSTICE

Notice of Lodging of Consent Decree Modification Under the Clean Air Act

In accordance with United States Department of Justice policy, 28 CFR 50.7, notice is hereby given that on June 21, 2004, a proposed Consent Decree Modification (“Modification”) in United States v. Puerto Rico Electric Power Authority (PREPA), Civil Action No. 93-2527, we lodged with the United States District Court for the District of Puerto Rico.

The Modification resolves two Clean Air Act disputes under an existing Consent Decree with PREPA, entered by Judge Carmen C. Cerezo in March, 1999. PREPA owns and operates four electric generating plants (South Coast, Aguirre, San Juan and Palo Seco). The first dispute involves PREPA contesting EPA's interpretation of an EPA technical method (Method 9) and EPA's resulting conclusions that PREPA is not correctly applying Method 9 to observe and record the opacity of the plumes emanating from its smoke stacks, and PREPA did not correctly establish the Optimal Operating Ranges for minimizing the opacity of the emissions discharging from those smoke stacks. The second dispute involves PREPA contesting EPA's determination that a number of opacity violations recorded by PREPA's in-stack opacity monitors constitute “recurring, egregious, or persistent violations” of the opacity standard, as those terms are used in the Consent Decree.

Among other provisions, the Modification provides that PREPA shall: adhere to and not contest EPA's interpretation of Method 9; switch to using a fuel oil with a lower sulfur content; implement NOX reduction measures; use diesel fuel for cold start up of its boilers; pay a penalty of $300,000; and pay $200,000 to further fund Additional Environmental Projects identified in the Consent Decree.

The Department of Justice will receive for a period of thirty (30) days from the date of this publication comments relating to the Modification. Comments should be addressed to the Assistant Attorney General, Environment and Natural Resources Division, PO Box 7611, U.S. Department of Justice, Washington, DC 20044-7611, and should refer to United States v. Puerto Rico Electric Power Authority, D.J. Ref. 90-5-2-1-1750/2.

The Modification may be examined at the Office of the United States Attorney, Federico Degeteau Federal Building, Carlos Chardon Avenue, Hato Rey, Puerto Rico 00918; the Region II Caribbean Environmental Protection Division, Centro Europa Building, 1492 Ponce de Leon Avenue, Suite 417, Santurce, Puerto Rico 00907 and at the Region II Office of the Environmental Protection Agency, 290 Broadway, New York, New York 10007-1866. During the public comment period, the Modification may also be examined on the following Department of Justice Web site, http://www.usdoj.gov/enrd/open.html. A copy of the Modification may also be obtained by mail from the Consent Decree Library, PO Box 7611, U.S. Department of Justice, Washington, DC 20044-7611 or by faxing or e-mailing a request to Tonia Fleetwood tonia.fleetwood@usdoj.gov, fax no. (202) 514-0097, phone confirmation number (202) 514-1547. In requesting a copy from the Consent Decree Library, please enclose a check in the amount of $8.50 (25 cents per page reproduction cost) payable to the U.S. Treasury.

Ronald G. Gluck,
Assistant Chief, Environmental Enforcement Section, Environment and Natural Resources Division.

[FR Doc. 04-14886 Filed 6-30-04; 8:45 am]

BILLING CODE 4410-15-M